DEPARTMENT OF HOMELAND SECURITY

Federal Emergency Management Agency

[Docket ID: FEMA-2015-0008; OMB No. 1660-0030]

Agency Information Collection Activities: Submission for OMB Review; Comment Request; Manufactured Housing Operations Forms

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before June 15, 2015.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 500 C Street SW., Washington, DC 20472-3100, facsimile number (202) 212-4701, or email address FEMA-Information-Collections-Management@fema.dhs.gov.

SUPPLEMENTARY INFORMATION:

Collection of Information

Title: Manufactured Housing Operations Forms.

Type of information collection: Revision of a currently approved information collection.

OMB Number: 1660-0030.

Form Titles and Numbers: FEMA Form 010-0-09, Request for the Site Inspection; FEMA Form 010-0-10, Landowner's Authorization Ingress-Egress Agreement; FEMA Form 009-0-138, Manufactured Housing Unit Inspection Report; FEMA Form 009-0-136, Unit Installation Work Order; FEMA Form 009-0-130, Maintenance Work Order.

Abstract: As authorized under The Robert T. Stafford Disaster Relief and Emergency Assistance Act, FEMA provides temporary housing units to eligible survivors of federally declared disasters. 42 U.S.C. 5174. This information is required to determine whether the infrastructure of the site supports the installation of a temporary housing unit. This collection also obtains permission to place the unit on the property. The property owner certifies that they will not have a lien placed against the unit for their own debts, thus ensuring they will maintain the property so that FEMA can remove the unit when required.

Affected Public: Individuals or households; business or other for-profit.

Estimated Number of Respondents: 25,000.

Estimated Total Annual Burden Hours: 4,250 hours.

Estimated Cost: The estimated annual cost to respondents for the hour burden is $134,657.00. There are no annual costs to respondents' operations and maintenance costs for technical services. There is no annual start-up or capital costs. The cost to the Federal Government is $2,076,300.

Dated: May 8, 2015.
Janice Waller,
Acting Director, Records Management Division, Mission Support, Federal Emergency Management Agency, Department of Homeland Security.

[FR Doc. 2015-11850 Filed 5-14-15; 8:45 am]

BILLING CODE 9111-23-P